DEPARTMENT OF COMMERCE

National Oceanic and Atmospheric Administration

RIN 0648-XJ14

Marine Mammals; File No. 10133

AGENCY: National Marine Fisheries Service (NMFS), National Oceanic and Atmospheric Administration (NOAA), Commerce.

ACTION: Notice; issuance of permit.

SUMMARY: Notice is hereby given that Zvi Livnat, P.O. Box 1209, Kealakekua, Hawaii 96750 has been issued a permit to conduct commercial/educational photography.

ADDRESSES: The permit and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)944-2200; fax (808)973-2941;

FOR FURTHER INFORMATION CONTACT: Amy Hapeman or Jennifer Skidmore, (301)713-2289.

SUPPLEMENTARY INFORMATION: On March 21, 2008, notice was published in the Federal Register (73 FR 15137) that a request for a commercial/educational photography permit to take spinner dolphins (Stenella longirostris) had been submitted by the above-named individual. The requested permit has been issued under the authority of the Marine Mammal Protection Act of 1972, as amended (16 U.S.C. 1361 et seq.) and the regulations governing the taking and importing of marine mammals (50 CFR part 216).

The applicant is authorized to film human interactions with spinner dolphins in the coastal waters of Hawaii and Maui. The purpose of the filming is to produce a public service announcement to educate residents and tourists of the Hawaiian Islands about the dangers that swim-with programs pose to the species and illustrate proper dolphin watching techniques. Up to 2,710 spinner dolphins could be harassed annually during aerial and vessel-based close approaches for filming, including underwater filming. Up to 230 pantropical spotted dolphins (Stenella attenuata), and 50 bottlenose dolphins (Tursiops truncatus) could be incidentally harassed or filmed annually. Filming would occur from March to October of each year over a period of 4 years.

In compliance with the National Environmental Policy Act of 1969 (42 U.S.C. 4321 et seq.), a final determination has been made that the activity proposed is categorically excluded from the requirement to prepare an environmental assessment or environmental impact statement.

Dated: July 17, 2008.
P. Michael Payne,
Chief, Permits, Conservation and Education Division, Office of Protected Resources, National Marine Fisheries Service.

[FR Doc. E8-16844 Filed 7-22-08; 8:45 am]

BILLING CODE 3510-22-S